DEPARTMENT OF COMMERCE

Foreign-Trade Zones Board

[B-20-2013]

Notification of Proposed Production Activity TTI, Inc.; Subzone 196A (Electromechanical and Circuit Protection Devices Production/Kitting); Fort Worth, TX

TTI, Inc. (TTI), operator of Subzone 196A, submitted a notification of proposed production activity for its facilities located in Fort Worth, Texas. The notification conforming to the requirements of the regulations of the Foreign Trade-Zones Board (the Board) (15 CFR 400.22) was received on February 13, 2013.

The TTI facilities are located within Subzone 196A at 2601 Sylvania Cross Drive and 2441 Northeast Parkway, Fort Worth (Tarrant County), Texas. The facilities are used for electromechanical and circuit protection device production/kitting for a variety of commercial, aerospace and military applications. Pursuant to 15 CFR 400.14(b) of the regulations, FTZ activity would be limited to the specific foreign-status materials and components and specific finished products included in the submitted notification (as described below) and subsequently authorized by the FTZ Board.

Production under FTZ procedures could exempt TTI from customs duty payments on the foreign status components used in export production. On its domestic sales, TTI would be able to choose the duty rates during customs entry procedures that apply to resistors, capacitors, connectors, discretes, potentiometers, trimmers, magnetic and circuit protection components, wire and cable, wire and cable identification markers, application tools for crimping, insertion/extraction, and terminal removal, and electromechanical devices (duty rates range from free to 3.5%) for the foreign status inputs noted below. Customs duties also could possibly be deferred or reduced on foreign status production equipment.

The components and materials sourced from abroad include: Rubber and plastic gaskets, washers, and seals; circuit protection devices (including connectors); molded parts for connector assemblies; metal contacts; plastic fittings; insulators (including, quartz, Teflon, silicon and ceramic); base metal insulating materials (including electrical conduit tubing); electrical circuit switching and protection components; and iron and steel wire components (duty rates range from free to 5.3%).

Public comment is invited from interested parties. Submissions shall be addressed to the Board's Executive Secretary at the address below. The closing period for their receipt is April 22, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: March 7, 2013.
Executive Secretary.

[FR Doc. 2013-05661 Filed 3-11-13; 8:45 am]

BILLING CODE 3510-DS-P